DEPARTMENT OF COMMERCE

National Oceanic and Atmospheric Administration

Agency Information Collection Activities; Submission to the Office of Management and Budget (OMB) for Review and Approval; Comment Request; Queen Conch Reporting Form

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 18, 2024.

ADDRESSES: Interested persons are invited to submit written comments to Adrienne Thomas, NOAA PRA Officer, at NOAA.PRA@noaa.gov. Please reference OMB Control Number 0648-XXXX in the subject line of your comments. All comments received are part of the public record and will generally be posted on https://www.regulations.gov without change. Do not submit Confidential Business Information or otherwise sensitive or protected information.

FOR FURTHER INFORMATION CONTACT: Requests for additional information or specific questions related to collection activities should be directed to Orian Tzadik, Natural Resource Specialist, National Marine Fisheries Service, Southeast Regional Office, USCG Air station Borinquen, 260 Guard Road, Aguadilla, PR 00603, (813)-906-0353, and Orain.Tzadik@noaa.gov.

SUPPLEMENTARY INFORMATION:

I. Abstract

This is a request for a new collection of information. The Protected Resources Division of the National Marine Fisheries Service's Southeast Regional Office will be collecting Queen Conch (strombus gigas) data under the authority of the Endangered Species Act of 1973, as amended. Data will be requested via an online form that will be provided to action agencies during the ESA Section 7 consultation process. Federal action agencies will ensure a survey is conducted as a condition of their permitted projects. Collection of monitoring data is consistent with ESA Section 7 consultation requirements, to ensure accurate reporting of “take” for listed species. The required monitoring data collected through this form will be used to determine if nearshore development projects are resulting in unanticipated “take” of queen conch, and cumulatively affecting species distribution and habitat use within the species' range in the southeastern United States. Data may also be important for estimating the population of queen conch in various locations of its range.

II. Method of Collection

Data will be collected via an online form that will be shared by the National Marine Fisheries Service.

III. Data

OMB Control Number: 0648-XXXX.

Form Number(s): None.

Type of Review: Regular submission. This is a new information collection.

Affected Public: Businesses or other for-profit organizations conducting in-water construction activities under federal permits within the range of Queen Conch in the southeastern United States.

Estimated Number of Respondents: 200.

Estimated Time per Response: 9 minutes.

Estimated Total Annual Burden Hours: 33 hours.

Estimated Total Annual Cost to Public: $0 to complete survey.

Respondent's Obligation: Mandatory, as condition of federally permitted activity.

Legal Authority: Endangered Species Act of 1973, as amended.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-21067 Filed 9-16-24; 8:45 am]

BILLING CODE 3510-22-P